DEPARTMENT OF HEALTH AND HUMAN SERVICES

Centers for Disease Control and Prevention

Disease, Disability, and Injury Prevention and Control Technical Evaluation Panel (TEP): Surveillance for Incident Cases of Asthma, Contract Solicitation Numbers 2004-N-01206 and 2004-N-01208

In accordance with Section 10(a)(2) of the Federal Advisory Committee Act (Pub. L. 92-463), the Centers for Disease Control and Prevention (CDC) announces the following meeting:

Name: Disease, Disability, and Injury Prevention and Control Technical Evaluation Panel (TEP): Surveillance for Incident Cases of Asthma, Contract Solicitation Numbers 2004-N-01206 and 2004-N-01208.

Times and Dates: 1 p.m.-1:30 p.m., July 26, 2004 (Open).

1:30 p.m.-4:30 p.m., July 26, 2004 (Closed).

Place: Teleconference Phone Number 1-888-889-1733 Pass Code 6552508.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of proposals received in response to Surveillance for Incident Cases of Asthma, Contract Solicitation Numbers 2004-N-01206 and 2004-N-01208.

Contact Person For More Information: J. Felix Rogers, Ph.D., M.P.H., Centers for Disease Control, National Center for Environmental Health/Agency for Toxic Substance Disease Registry, Office of Science, 1824 Century Boulevard, Atlanta, GA 30345, Telephone (404) 498-0222.

The Director, Management Analysis and Services Office, has been delegated the authority to sign Federal Register notices pertaining to announcements of meetings and other committee management activities, for both CDC and the Agency for Toxic Substances and Disease Registry.

Dated: June 29, 2004.
Alvin Hall,
Director, Management Analysis and Services Office, Centers for Disease Control and Prevention.

[FR Doc. 04-15502 Filed 7-7-04; 8:45 am]

BILLING CODE 4163-70-P